DEPARTMENT OF ENERGY

Federal Energy Regulatory Commission

Combined Notice of Filings #

Take notice that the Commission received the following electric corporate filings:

Docket Numbers: EC11-102-000.

Applicants: San Diego Gas & Electric Company.

Description: Application of San Diego Gas & Electric Company to Acquire Existing Generating Facility.

Filed Date: 08/05/2011.

Accession Number: 20110805-5080.

Comment Date: 5 p.m. Eastern Time on Friday, August 26, 2011.

Take notice that the Commission received the following electric rate filings:

Docket Numbers: ER11-4237-000.

Applicants: Midwest Independent Transmission System Operator, Inc., ITC Midwest LLC.

Description: Midwest Independent Transmission System Operator, Inc. submits tariff filing per 35.13(a)(2)(iii: Filing of Notice of Succession to be effective 10/5/2011.

Filed Date: 08/05/2011.

Accession Number: 20110805-5043.

Comment Date: 5 p.m. Eastern Time on Friday, August 26, 2011.

Docket Numbers: ER11-4238-000.

Applicants: Midwest Independent Transmission System Operator, Inc., ITC Midwest LLC.

Description: Midwest Independent Transmission System Operator, Inc. submits tariff filing per 35.13(a)(2)(iii: Filing of Notice of Succession to be effective 10/5/2011.

Filed Date: 08/05/2011.

Accession Number: 20110805-5048.

Comment Date: 5 p.m. Eastern Time on Friday, August 26, 2011.

Docket Numbers: ER11-4239-000.

Applicants: Midwest Independent Transmission System Operator, Inc., ITC Midwest LLC.

Description: Midwest Independent Transmission System Operator, Inc. submits tariff filing per 35.13(a)(2)(iii: Filing of Notice of Succession to be effective 10/5/2011.

Filed Date: 08/05/2011.

Accession Number: 20110805-5049.

Comment Date: 5 p.m. Eastern Time on Friday, August 26, 2011.

Docket Numbers: ER11-4240-000.

Applicants: Upper Peninsula Power Company.

Description: Upper Peninsula Power Company submits tariff filing per 35.13(a)(2)(iii: Metering Agent Agreement Between WPPI, L'Anse and UPPCO to be effective 10/1/2011.

Filed Date: 08/05/2011.

Accession Number: 20110805-5051.

Comment Date: 5 p.m. Eastern Time on Friday, August 26, 2011.

Docket Numbers: ER11-4241-000.

Applicants: Midwest Independent Transmission System Operator, Inc., ITC Midwest LLC.

Description: Midwest Independent Transmission System Operator, Inc. submits tariff filing per 35.13(a)(2)(iii: Filing of Notice of Succession to be effective 10/5/2011.

Filed Date: 08/05/2011.

Accession Number: 20110805-5052.

Comment Date: 5 p.m. Eastern Time on Friday, August 26, 2011.

Docket Numbers: ER11-4242-000.

Applicants: Midwest Independent Transmission System Operator, Inc., ITC Midwest LLC.

Description: Midwest Independent Transmission System Operator, Inc. submits tariff filing per 35.13(a)(2)(iii: Filing of Notice of Succession to be effective 10/5/2011.

Filed Date: 08/05/2011.

Accession Number: 20110805-5053.

Comment Date: 5 p.m. Eastern Time on Friday, August 26, 2011.

Docket Numbers: ER11-4243-000.

Applicants: California Independent System Operator Corporation.

Description: California Independent System Operator Corporation submits tariff filing per 35.13(a)(2)(iii: 2011-08-05 CAISO Pilot Agreement with Bonneville Power to be effective 10/1/2011.

Filed Date: 08/05/2011.

Accession Number: 20110805-5062.

Comment Date: 5 p.m. Eastern Time on Friday, August 26, 2011.

Docket Numbers: ER11-4244-000.

Applicants: Midwest Independent Transmission System Operator, Inc.

Description: Midwest Independent Transmission System Operator, Inc. submits tariff filing per 35.13(a)(2)(iii: G619 Termination to be effective 10/5/2011.

Filed Date: 08/05/2011.

Accession Number: 20110805-5071.

Comment Date: 5 p.m. Eastern Time on Friday, August 26, 2011.

Docket Numbers: ER11-4245-000.

Applicants: PJM Interconnection, L.L.C.

Description: PJM Interconnection, L.L.C. submits tariff filing per 35.13(a)(2)(iii: Queue Position O09; Original Service Agreement No. 2984 to be effective 7/6/2011.

Filed Date: 08/05/2011.

Accession Number: 20110805-5101.

Comment Date: 5 p.m. Eastern Time on Friday, August 26, 2011.

Docket Numbers: ER11-4246-000.

Applicants: PJM Interconnection, L.L.C.

Description: PJM Interconnection, L.L.C. submits tariff filing per 35.13(a)(2)(iii: Queue Position T59; Original Service Agreement No. 2983 to be effective 7/6/2011.

Filed Date: 08/05/2011.

Accession Number: 20110805-5103.

Comment Date: 5 p.m. Eastern Time on Friday, August 26, 2011.

Docket Numbers: ER11-4247-000.

Applicants: PJM Interconnection, L.L.C.

Description: PJM Interconnection, L.L.C. submits tariff filing per 35.13(a)(2)(iii: Queue Position T54; Original Service Agreement No. 2982 to be effective 7/6/2011.

Filed Date: 08/05/2011.

Accession Number: 20110805-5113.

Comment Date: 5 p.m. Eastern Time on Friday, August 26, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2011.
Kimberly D. Bose,
Secretary.

[FR Doc. 2011-20550 Filed 8-11-11; 8:45 am]

BILLING CODE 6717-01-P